DEPARTMENT OF JUSTICE

[OMB Number 1123-0014]

Agency Information Collection Activities; Proposed eCollection eComments Requested; Extension of a Previously Approved Collection Application for Certificates of Pardon for the Offense of Simple Possession of Marijuana—E.O.

AGENCY: Office of Pardon Attorney, Department of Justice.

ACTION: 60-Day notice.

SUMMARY: The Department of Justice (DOJ), The Office of the Pardon Attorney, will be submitting the following information collection request to the Office of Management and Budget (OMB) for review and approval in accordance with the Paperwork Reduction Act of 1995.

DATES: Comments are encouraged and will be accepted for 60 days until July 5, 2023.

FOR FURTHER INFORMATION CONTACT: If you have additional comments especially on the estimated public burden or associated response time, suggestions, or need a copy of the proposed information collection instrument with instructions or additional information, please contact Kira Gillespie, Deputy Pardon Attorney, Office of the Pardon Attorney, 950 Pennsylvania Avenue NW, Main Justice—RFK Building, Washington, DC 20530; kira.gillespie@usdoj.gov; (202) 616-6073.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: The purpose of this collection is to gather information necessary to enable the Office of the Pardon Attorney, U.S. Department of Justice to expeditiously administer the provisions of the Executive Order 10467, a proclamation granting pardons to individuals charged or convicted of simple possession of marijuana. The collection will enable individuals to apply for certificates of pardon, restoring political, civil, and other rights by implementing a process to provide certificates of pardon as provided by the order.

Overview of This Information Collection

1. Type of Information Collection: Extension of a currently approved collection.

2. The Title of the Form/Collection: Application for Certificates of Pardon for the Offense of Simple Possession of Marijuana.

3. The agency form number, if any, and the applicable component of the Department sponsoring the collection: There is no agency form number for this collection. The applicable component within the Department of Justice is the Office of the Pardon Attorney.

4. Affected public who will be asked or required to respond, as well as the obligation to respond:

Affected Public: Individuals or households will be asked to respond to this request. The President issued a proclamation on October 6, 2022, pardoning many persons who had been convicted federally of a simple possession of marijuana offense. If a person wants proof of their pardon, they can submit the Application to verify their eligibility under the proclamation. The obligation to respond is voluntary, and a person who qualified under the proclamation is pardoned regardless if they submit an Application.

5. An estimate of the total number of respondents and the amount of time estimated for an average respondent to respond: the Office of the Pardon Attorney estimate that a potential pool of at least 20,000 applicants may apply. The application for the certificate is simple, and will not take long to complete, between 10 and 30 minutes. The applicants must also provide proof of their prior convictions or charges, which we estimate would take anywhere between 10 minutes to two hours of effort, including research, phone calls, and conversations with necessary personnel to attain the appropriate documentation.

6. An estimate of the total public burden (in hours) associated with the collection: The estimated public burden associated with this collection is 40,000 hours. It is estimated that respondents will take two hours to complete the certificate.

Total Burden Hours
Activity | Number of respondents | Frequency | Total annual responses | Time per response | Total annual burden (hours)
Application | 20,000 | 1 | 20,000 | 2 hours | 40,000
Unduplicated Totals | 20,000 | 1 | 20,000 |  | 40,000

If additional information is required contact: John R. Carlson, Department Clearance Officer, United States Department of Justice, Justice Management Division, Policy and Planning Staff, Two Constitution Square, 145 N Street NE, 4W-218, Washington, DC 20530.

Dated: May 2, 2023.
John Carlson,
Department Clearance Officer for PRA, U.S. Department of Justice.

[FR Doc. 2023-09644 Filed 5-4-23; 8:45 am]

BILLING CODE 4410-29-P